DEPARTMENT OF EDUCATION

National Institute on Disability and Rehabilitation Research

AGENCY: Office of Special Education and Rehabilitative Services (OSERS), Department of Education.

ACTION: Request for comments on title III of the Assistive Technology Act and the need for rulemaking.

SUMMARY: The Assistant Secretary invites written comments on the Alternative Financing Mechanisms Program (AFP) under title III of the Assistive Technology Act (AT Act) of 1998, which is administered by the National Institute on Disability and Rehabilitation Research (NIDRR). We encourage individuals to comment on how well the purpose and objectives of title III are being met by the States and suggestions for improving the implementation of title III. In particular, we are soliciting written comments in order to determine what issues have arisen in the implementation of the AFP that could be addressed through rulemaking. We are particularly interested in comments related to the following:

(1) Selection criteria for the review of applications and the experience and expertise required of the reviewers;

(2) How words and terms used in title III such as “cash,” “permanent and separate account,” “community-based organization,” “obligation period,” “project period,” “reporting period” should be interpreted within this authority;

(3) Data collection, reporting requirements and deadlines;

(4) The fiscal, administrative, and programmatic responsibilities of grantees and community-based organizations, and the scope and nature of fiscal control and administrative oversight required for a permanent AFP; and

(5) The ways in which title III may be used by employers to secure loans, guarantee loans, and purchase AT devices or services for employees with disabilities for whom the employer does not have an Americans with Disability Act (ADA) responsibility.

While we seek comments on any aspect of the implementation of Title III, the purpose of this solicitation is to aid us in considering where rulemaking may be necessary to clarify and enhance understanding of the existing statute in an effort to stimulate States' interest in the program and to increase the number of high quality applications. We cannot consider for rulemaking comments suggesting statutory changes.

DATES: We would like to receive your written comments on Title III on or before September 12, 2002.

ADDRESSES: Address all comments to Carol Cohen, U.S. Department of Education, 400 Maryland Avenue, SW., room 3420, SW., Washington, DC 20202-2645. Fax: (202) 205-8515. If you prefer to send your comments through the Internet, use the following address: carol.cohen@ed.gov.

During and after the comment period, you may inspect all public comments about these priorities in room 3420, Switzer Building, 330 C Street, SW., Washington, DC, between the hours of 8:30 a.m. and 4 p.m., Eastern time, Monday through Friday of each week except Federal holidays.

Assistance to Individuals With Disabilities in Reviewing the Comments

On request, we will supply an appropriate aid, such as a reader or print magnifier, to an individual with a disability who needs assistance to review the comments. If you want to schedule an appointment for this type of aid, please contact the person listed under FOR FURTHER INFORMATION CONTACT.

FOR FURTHER INFORMATION CONTACT: Carol G. Cohen, Telephone: (202) 205-5666.

If you use a telecommunications device for the deaf (TDD), you may call the TDD number at (202) 205-4475 or via the Internet: carol.cohen@ed.gov.

Individuals with disabilities may obtain this document in an alternative format (e.g., Braille, large print, audiotape, or computer diskette) on request to the contact person listed under FOR FURTHER INFORMATION CONTACT.

SUPPLEMENTARY INFORMATION:

Background and Description of Title III of the Assistive Technology Act of 1998

The purpose of the AFP under title III is to maximize independence and participation in society by individuals with disabilities by assisting them in obtaining AT. The AFP pays a share of the cost of establishment or expansion, and administration of programs that offer individuals with disabilities, their families and authorized representatives funding alternatives to the traditional payment options of public assistance and self-financing for AT devices and services. Under the AFP, a grantee may implement one or more alternative financing mechanisms to allow individuals with disabilities and their family members, guardians, advocates, and others to purchase AT devices and services.

NIDRR funded six States under the AFP in FY 2000 and 14 States in FY 2001. In FY 2000, NIDRR funded one Technical Assistance project for a 24-month period to assist States as they prepare applications for AFP grants and to assist recipients of grants to develop and implement the new loan programs in their States. Loan programs enhance access to AT devices and services in a way that underscores independence and inclusion.

The New Freedom Initiative (NFI)

NIDRR is interested in suggestions for the implementation of Title III that will contribute to one or more of the following objectives that support the NFI. The NFI is designed to help individuals with disabilities by increasing access to assistive technologies, expanding educational opportunities, increasing the ability of individuals with disabilities to integrate into the workforce, and promoting increased access into daily community life.

Objectives that support the NFI are the following:

• Increasing access to assistive and universally designed technologies through alternative financing mechanisms.

• Expanding educational opportunities for individuals with disabilities through increased access to AT.

• Integrating individuals with disabilities into the workforce through increased availability of AT and purchasing opportunities.

• Expanding telecommuting; promoting innovative transportation solutions through the provision of an alternative loan program.

• Promoting full access to community life through the increased acquisition of AT.

• Promoting the successful implementation of the Olmstead Decision by virtue of increased access to AT.

Availability of Copies of the NFI

The NFI can be accessed at the following site: http://www.whitehouse.gov/news/freedominitiative/freedominitiative.html.

Individuals who are unable to access the Internet may obtain copies of the NFI by contacting the person listed under FOR FURTHER INFORMATION CONTACT. Individuals with disabilities may obtain a copy of the NFI in an alternative format (e.g., Braille, large print, audiotape, or computer diskette) on request to the person listed under FOR FURTHER INFORMATION CONTACT.

Recommended Format for Comments

We recommend that your written comments be no longer than two single-spaced pages. We recommend that your comments include the following information:

(1) A brief background statement on your relationship to or interest in the Title III program and description of the problem or issue that you are addressing.

(2) A description of the activities or guidance that could address the identified problem or issue.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.224C, Alternative Financing Program.)
Program Authority:
29 U.S.C. 3051-3056.
Dated: August 8, 2002.
Loretta Chittum,
Acting Assistant Secretary for Special Education and Rehabilitative Services.

[FR Doc. 02-20475 Filed 8-12-02; 8:45 am]

BILLING CODE 4000-01-P